EQUAL EMPLOYMENT OPPORTUNITY COMMISSION

29 CFR Part 1630

Regulations To Implement the Equal Employment Provisions of the Americans With Disabilities Act, as Amended

CFR Correction

In Title 29 of the Code of Federal Regulations, Parts 900 to 1899, revised as of July 1, 2011, on page 365, in § 1630.2, in paragraph (o)(1)(ii), remove the words “a qualified individual with a disability” and add, in their place, “an individual with a disability who is qualified”.

[FR Doc. 2012-8181 Filed 4-3-12; 8:45 am]

BILLING CODE 1505-01-D